DEPARTMENT OF HOMELAND SECURITY

Transportation Security Administration

Revision of Agency Information Collection Activity Under OMB Review: Exercise Information System

AGENCY: Transportation Security Administration, DHS.

ACTION: 30-Day notice.

SUMMARY: This notice announces that the Transportation Security Administration (TSA) has forwarded the Information Collection Request (ICR), Office of Management and Budget (OMB) control number 1652-0057, abstracted below to OMB for review and approval of a revision of the currently approved collection under the Paperwork Reduction Act (PRA). The ICR describes the nature of the information collection and its expected burden for the TSA Exercise Information System (EXIS®). EXIS® is a web portal that assists stakeholders to build and manage exercise planning teams, and share best practices & lessons learned. Using and inputting information into EXIS® is completely voluntary.

DATES: Send your comments by January 6, 2025. A comment to OMB is most effective if OMB receives it within 30 days of publication.

ADDRESSES: Written comments and recommendations for the proposed information collection should be sent within 30 days of publication of this notice to https://www.reginfo.gov/public/do/PRAMain. Find this particular information collection by selecting “Currently under Review—Open for Public Comments” or by using the find function.

FOR FURTHER INFORMATION CONTACT: Christina A. Walsh, TSA PRA Officer, Information Technology, TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, for the following collection of information on September 17, 2024, 89 FR 76125. TSA did not receive any comments on the notice.

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Exercise Information System (EXIS®).

Type of Request: Revision of a currently approved collection.

OMB Control Number: 1652-0057.

Forms(s): NA.

Affected Public: Transportation System Sector.

Abstract: EXIS® is a voluntary, online tool developed by TSA to support the mission of a program developed and implemented by TSA to fulfill requirements of the Implementing Recommendations of the 9/11 Commission Act of 2007.¹ These statutory requirements led to the development of the Intermodal Security Training Exercise Program for the Transportation Systems Sector. Within the Intermodal Security Training Exercise Program, EXIS® is an interactive resource for the Transportation Systems Sector.

¹ See sections 1407 (public transportation), 1516 (railroads), and 1553 (over-the-road buses) of Public Law 110-53 (Aug. 3, 2007) as codified at 6 U.S.C. 1136(a)), 1166, and 1183, respectively.

TSA is revising the information collection to reduce the data collected during user registration and will no longer collect Supervisor or other Sponsor's Name, Employment Verification Contact Name and Verification Contact Information. TSA determined the information was unnecessary because TSA is implementing new capabilities in EXIS® to verify an individual's identity more securely before granting access.

Estimated Annual Number of Respondents: 18,553.²

² Since the publication of the 60-day notice, TSA has updated the number of respondents from 16,713 to 18,553 and the burden hours from 10,299 to 11,422.4.

Estimated Annual Burden Hours: 11,422.4.

Dated: December 2, 2024.
Christina A. Walsh,
TSA Paperwork Reduction Act Officer, Office of Information Technology.

[FR Doc. 2024-28480 Filed 12-4-24; 8:45 am]

BILLING CODE 9110-05-P